SECURITIES AND EXCHANGE COMMISSION

Proposed Collection; Comment Request

Upon Written Request; Copies Available From: Securities and Exchange Commission, Office of Filings and Information Services, Washington, DC 20549.

Extension:

Form S-2, OMB Control No. 3235-0072 and SEC File No. 270-060.

Notice is hereby given that pursuant to the Paperwork Reduction Act of 1995 (44 U.S.C. 3501 et seq.) the Securities and Exchange Commission (“Commission”) is soliciting comments on the collection of information summarized below. The Commission plans to submit this existing collection of information to the Office of Management and Budget for approval.

Form S-2 (OMB Control No. 3235-0072; SEC File No. 270-060) is used by certain issuers to register securities under the Securities Act of 1933. The Form S-2 provides investors with the necessary information to make investment decisions regarding securities offered to the public. The likely respondents will be public companies. The information collected must be filed with the Commission and is publicly available. Form S-2 takes approximately 470 burden hours to prepare and is filed by 101 respondents for a total of 47,470 burden hours. It is estimated that 25% of the 47,470 total burden hours (11,868 hours) is prepared by the company. The remaining 75% of the burden hours is attributed to outside cost.

Written comments are invited on: (a) Whether this proposed collection of information is necessary for the performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comment to Kenneth A. Fogash, Acting Associate Executive Director/CIO, Office of Information Technology, Securities and Exchange Commission, 450 Fifth Street NW., Washington, DC 20549.

Dated: July 22, 2003.
J. Lynn Taylor,
Assistant Secretary.

[FR Doc. 03-19331 Filed 7-29-03; 8:45 am]

BILLING CODE 8010-01-P